DEPARTMENT OF STATE

[Public Notice 4534]

Cultural Property Advisory Committee Notice of Meeting

In accordance with the provisions of the Convention on Cultural Property Implementation Act (19 U.S.C. 2601 et seq.) there will be a meeting of the Cultural Property Advisory Committee on Tuesday, January 13, 2004, from approximately 9:30 a.m. to 5 p.m., and on Wednesday, January 14, 2004, from approximately 9:30 a.m. to 12 noon, at the United States Department of State, Annex 44, 301 4th St., SW., Washington, DC. Pursuant to 19 U.S.C. 2605(g), the Committee will conduct a review of the “Memorandum of Understanding between the Government of the United States of America and the Government of the Republic of El Salvador Concerning the Imposition of Import Restrictions on Certain Categories of Archaeological Material from the Pre-Hispanic Cultures of the Republic of El Salvador;” and the “Agreement between the Government of the United States of America and the Government of the Republic of Nicaragua Concerning the Imposition of Import Restrictions on Archaeological Material from the Pre-Hispanic Cultures of the Republic of Nicaragua.” The Committee's review will focus attention on Article II of each agreement.

Portions of the meeting will be closed pursuant to 5 U.S.C. 552b(c)(9)(B). There will also be an open session to receive comments from interested parties regarding these two agreements. The open portion of the meeting will be held from approximately 1:30 to 2:30 p.m. on January 13. Seating is limited. Persons wishing to attend this open portion of the meeting must notify the Cultural Property office at (202) 619-6612 by 5 p.m. (EDT) Wednesday, January 7, 2004, to arrange for admission. Persons wishing to present oral comments at the open portion of the meeting, or to submit written comments for the Committee's consideration, must provide them in writing by 5 p.m., (EDT) January 7, 2004. All comments may be faxed to (202) 260-4893. Oral presentations will be limited to ensure time for the Committee to pose questions. Information about the Convention on Cultural Property Implementation Act and these two agreements may be found at http://exchanges.state.gov/culprop.

Dated: December 11, 2003.
Patricia S. Harrison,
Assistant Secretary for Educational and Cultural Affairs, Department of State.

[FR Doc. 03-31578 Filed 12-22-03; 8:45 am]

BILLING CODE 4710-05-P